DEPARTMENT OF COMMERCE

International Trade Administration

[A-570-836]

Glycine From the People's Republic of China: Notice of Court Decision Not in Harmony With Final Results of the Antidumping Duty Administrative Review and Notice of Amended Final Results; 2013-2014

AGENCY: Enforcement and Compliance, International Trade Administration, Department of Commerce.

SUMMARY: The Court of International Trade (CIT or Court) sustained the final remand results pertaining to the administrative review of the antidumping duty order on glycine from the People's Republic of China (China), covering the period of March 1, 2013, through February 28, 2014. The Department of Commerce (Commerce) is notifying the public that the final judgment in this case is not in harmony with Commerce's final results of the administrative review and that Commerce is amending the final results with respect to the dumping margin assigned to Baoding Mantong Fine Chemistry Co. Ltd. (Baoding Mantong).

DATES: Applicable [March 22, 2018].

FOR FURTHER INFORMATION CONTACT: Edythe Artman or Brian Davis, AD/CVD Operations, Office VI, Enforcement and Compliance, International Trade Administration, U.S. Department of Commerce, 1401 Constitution Avenue NW, Washington, DC 20230; telephone: (202) 482-3931 or (202) 482-7924, respectively.

SUPPLEMENTARY INFORMATION:

Background

On October 15, 2015, Commerce published the Final Results,¹ in which it determined Baoding Mantong to have a weight-averaged dumping margin of 143.87 percent for the period under review. On August 1, 2017, the Court sustained three of Commerce's determinations in the Final Results but, with respect to findings for Baoding Mantong, remanded the results to Commerce for reconsideration of the surrogate value selection for liquid ammonia and the selection of companies used for the respondent's surrogate financial ratios.² In the Final Results of Redetermination, Commerce selected a new surrogate value for liquid ammonia and changed its selection of surrogate financial ratios; these two changes resulted in a dumping margin of zero percent.³ On March 12, 2018, the Court sustained the Final Results of Redetermination.⁴

¹ See Glycine from the People's Republic of China: Final Results of Antidumping Duty Administrative Review and Partial Rescission of Antidumping Duty Administrative Review; 2013-2014, 80 FR 62027 (October 15, 2015) (Final Results) and accompanying Issues and Decision Memorandum (Issues and Decision Memorandum).

² See Evonik Rexim (Nanning) Pharmaceutical Co. Ltd. v. United States, 253 F. Supp. 3d 1364 (2017). The Court consolidated actions filed by Evonik Rexim (Nanning) Pharmaceutical Co. Ltd. (Evonik) and Baoding Mantong on January 21, 2016, but later granted a motion to sever and stay one of Evonik's claims pending the final disposition of a similar claim in another segment of this antidumping duty proceeding.

³ See “Final Results of Redetermination Pursuant to Court Remand,” dated October 20, 2017 (Final Results of Redetermination).

⁴ See Evonik Rexim (Nanning) Pharmaceutical Co. Ltd. v. United States, Court No. 15-00296, Slip Op. 18-21 (CIT March 12, 2018).

Timken Notice

In its decision in Timken,⁵ as clarified by Diamond Sawblades,⁶ the Court of Appeals for the Federal Circuit held that, pursuant to section 516A(e) of the Tariff Act of 1930, as amended (the Act), Commerce must publish a notice of a court decision that is not “in harmony” with a Commerce determination and must suspend liquidation of entries pending a “conclusive” court decision. The CIT's March 12, 2018, final judgment sustaining the Final Results of Redetermination constitutes a final decision of the Court that is not in harmony with Commerce's Final Results. This notice is published in fulfillment of the Timken publication requirements. Accordingly, Commerce will continue the suspension of liquidation of the subject merchandise pending a final and conclusive court decision.

⁵ See Timken Co. v. United States, 893 F.2d 337 (Fed. Cir. 1990) (Timken).

⁶ See Diamond Sawblades Mfrs. Coalition v. United States, 626 F.3d 1374 (Fed. Cir. 2010) (Diamond Sawblades).

Amended Final Results of Review

Because there is now a final court decision, Commerce is amending the Final Results with respect to the dumping margin calculated for Baoding Mantong. Based on the Final Results of Redetermination, as sustained by the CIT, the revised dumping margin for Baoding Mantong, for the period March 1, 2013, through February 28, 2014, is as follows:

Producer or exporter | Weighted- average dumping margin (percent)
Baoding Mantong Fine Chemistry Co. Ltd | 0.00

In the event the Court's ruling is not appealed or, if appealed, upheld by a final and conclusive court decision, Commerce will instruct the U.S. Customs and Border Protection (CBP) to assess antidumping duties on unliquidated entries of subject merchandise with respect to Baoding Mantong.

Cash Deposit Requirements

As Baoding Mantong's cash deposit rate has not been subject to subsequent administrative reviews, Commerce will issue revised cash deposit instructions to CBP adjusting the rate for Baoding Mantong to zero percent, effective March 22, 2018.

Notification to Interested Parties

This notice is issued and published in accordance with sections 516A(e)(1), 751(a)(1), and 777(i)(1) of the Act.

Dated: March 22, 2018.
Gary Taverman,
Deputy Assistant Secretary for Antidumping and Countervailing Duty Operations, performing the non-exclusive functions and duties of the Assistant Secretary for Enforcement and Compliance.

[FR Doc. 2018-06149 Filed 3-27-18; 8:45 am]

BILLING CODE 3510-DS-P